SURFACE TRANSPORTATION BOARD

[Docket No. AB 319 (Sub-No. 5X)]

Florida Central Railroad Company, Inc.—Discontinuance of Service Exemption—in Lake County, Fla.

Florida Central Railroad Company, Inc. (Florida Central), filed a verified notice of exemption under 49 CFR part 1152, subpart F—Exempt Abandonments and Discontinuances of Service to discontinue service over an approximately 4.4-mile portion of rail line between milepost ASD 818.1 in Eustis, through a milepost equation at the Eustis Canal Bridge where milepost ASD 817.0 = milepost ASC 815.1, to the end of the line at milepost ASC 818.4 in Umatilla, in Lake County, Fla. (the Line).¹ The Line traverses U.S. Postal Service Zip Codes 32726 and 32784.

¹ Florida Central is a Class III common carrier that operates approximately 64 miles of rail line in central Florida. Florida Central commenced operations after acquiring several lines, including the Line, from CSX Transportation, Inc. (CSXT). See Fla. Cent. R.R.—Acquis. & Operation—Seaboard Sys. R.R., FD 30923 (ICC served Dec. 10, 1986). Florida Central states that, while it acquired the track assets comprising the Line from CSXT in 1986, CSXT retained ownership of the underlying right-of-way of the Line.

Florida Central has certified that: (1) No local traffic has moved over the Line for at least two years; (2) there is no overhead traffic to be rerouted over other lines; (3) no formal complaint filed by a user of rail service on the Line (or by a state or local government entity acting on behalf of such user) regarding cessation of service over the Line is pending either with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on August 6, 2016, unless stayed pending reconsideration. Petitions to stay that do not involve environmental issues and formal expressions of intent to file an OFA to subsidize continued rail service under 49 CFR 1152.27(c)(2) ² must be filed by July 18, 2016.³ Petitions to reopen must be filed by July 27, 2016, with the Surface Transportation Board, 395 E Street SW., Washington, DC 20423-0001.

² Each OFA must be accompanied by the filing fee, which is currently set at $1,600. See 49 CFR 1002.2(f)(25).

³ Because Florida Central is seeking to discontinue service, not to abandon the Line, trail use/rail banking and public use conditions are not appropriate. Because there will be environmental review during abandonment, this discontinuance does not require an environmental review.

A copy of any petition filed with the Board should be sent to Florida Central's representative: Audrey L. Brodrick, Fletcher & Sippel LLC, 29 North Wacker Drive, Suite 920, Chicago, IL 60606.

If the verified notice contains false or misleading information, the exemption is void ab initio.

Board decisions and notices are available on our Web site at “WWW.STB.DOT.GOV.”

Decided: June 30, 2016.
By the Board, Rachel D. Campbell, Director, Office of Proceedings.
Tia Delano,
Clearance Clerk.

[FR Doc. 2016-16101 Filed 7-6-16; 8:45 am]

BILLING CODE 4915-01-P